DEPARTMENT OF TRANSPORTATION

Federal Aviation Administration

14 CFR Part 71

[Docket No. FAA-2020-0512; Airspace Docket No. 20-AGL-10]

RIN 2120-AA66

Proposed Establishment of Area Navigation (RNAV) Routes T-301 and T-305; Northcentral United States

AGENCY: Federal Aviation Administration (FAA), DOT.

ACTION: Notice of proposed rulemaking (NPRM).

SUMMARY: This action proposes to establish area navigation (RNAV) routes T-301 and T-305 in the northcentral United States. The proposed new RNAV routes would expand the availability of RNAV routing in support of transitioning the National Airspace System (NAS) from ground-based to satellite-based navigation. Additionally, a portion of the new RNAV routes would provide enroute structure where VHF Omnidirectional Range (VOR) Federal airway segments were removed due to the Cape Girardeau, MO, VOR being decommissioned in support of the FAA's VOR Minimum Operational Network (MON) program.

DATES: Comments must be received on or before July 30, 2020.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2020-0512; Airspace Docket No. 20-AGL-10 at the beginning of your comments. You may also submit comments through the internet at https://www.regulations.gov.

FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV in the northcentral United States and improve the efficient flow of air traffic within the NAS by lessening the dependency on ground-based navigation.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0512; Airspace Docket No. 20-AGL-10) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0512; Airspace Docket No. 20-AGL-10.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

In 2003, Congress enacted the Vision 100—Century of Aviation Reauthorization Act (Pub. L. 108-176), which established a joint planning and development office in the FAA to manage the work related to the Next Generation Air Transportation System (NextGen). Today, NextGen is an ongoing FAA-led modernization of the nation's air transportation system to make flying safer, more efficient, and more predictable.

In support of NextGen efforts to improve the safety and efficiency of the NAS, as well as transition the NAS from a ground-based to a satellite-based Performance Based Navigation (PBN) system, the FAA is proposing to establish RNAV routes T-301 and T-305 to provide additional PBN enroute structure. This action would reduce air traffic control (ATC) sector workload and complexity, reduce pilot-to-controller communication, assist ATC when non-radar procedures are required, and increase NAS capacity in the areas of the new RNAV T-routes.

Additionally, portions of the proposed T-routes would mitigate previously removed airway segments from VOR Federal airways V-125 and V-313 in the Cape Girardeau, MO, area due to the planned decommissioning of the Cape Girardeau, MO, VOR in July 2020, as well as supplement existing Air Traffic Service (ATS) routes beyond the Cape Girardeau area. The new T-routes would also provide Instrument Flight Rules (IFR) pilots that are equipped for RNAV PBN additional ATS route options for navigating around areas of heavy aviation activity and in areas of limited or no radar coverage. Visual Flight Rules (VFR) pilots, equipped with RNAV PBN, who elect to navigate via ATS routes, could also take advantage of the proposed RNAV T-routes.

The proposed T-301 would provide RNAV routing from the Cape Girardeau, MO, area; through the Centralia, IL, and Springfield, IL, areas; to the Peoria, IL, area. Similarly, the proposed T-305 would provide RNAV routing from the Cape Girardeau, MO, area; through the Sparta, IL, and Vandalia, IL, areas; to the Terra Haute, IN, area.

The Proposal

The FAA is proposing an amendment to Title 14 Code of Federal Regulations (14 CFR) part 71 to establish RNAV routes T-301 and T-305. The proposed new T-routes are described below.

T-301: T-301 is a proposed new RNAV route that would extend between the Cape Girardeau, MO, DME and the Peoria, IL, VORTAC. This T-route would provide enroute routing in place of the recently removed V-313 airway segment between the Cape Girardeau, MO, DME and the Centralia, IL, VORTAC; enroute routing adjacent to the existing V-67 airway segments between the Centralia, IL, VORTAC and the Spinner, IL, VORTAC; and enroute routing over the existing V-129 airway segment between the Spinner, IL, VORTAC and the Peoria, IL, VORTAC.

T-305: T-305 is a proposed new RNAV route that would extend between the Cape Girardeau, MO, DME and the JIBKA, IN, waypoint. This T-route would provide enroute routing adjacent to and slightly beyond the recently removed V-125 airway segment between the Cape Girardeau, MO, DME and the NIKEL fix; routing to transition northeastward to the TYMME, IL, waypoint (new) located near the Vandalia, IL, VORTAC; and enroute routing adjacent to the V-14 airway segments between the Vandalia, IL, VORTAC and the Terra Haute, IN, VORTAC to the JIBKA, IN, waypoint (new) located approximately one nautical mile northwest of the Terra Haute VORTAC.

United States RNAV T-routes are published in paragraph 6011 of FAA Order 7400.11D, dated August 8, 2019, and effective September 15, 2019, which is incorporated by reference in 14 CFR 71.1. The RNAV routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6011 United States Area Navigation Routes.

* * * * *

T-301 Cape Girardeau, MO (CGI) to Peoria, IL (PIA) [New]
Cape Girardeau, MO (CGI) | DME | (Lat. 37°13′39.14″ N, long. 089°34′20.68″ W)
Centralia, IL (ENL) | VORTAC | (Lat. 38°25′12.00″ N, long. 089°09′32.39″ W)
TYMME, IL | WP | (Lat. 39°05′38.35″ N, long. 089°09′43.71″ W)
Spinner, IL (SPI) | VORTAC | (Lat. 39°50′23.04″ N, long. 089°40′39.85″ W)
Peoria, IL (PIA) | VORTAC | (Lat. 40°40′48.25″ N, long. 089°47′33.91″ W)
* * * * * * *
T-305 Cape Girardeau, MO (CGI) to JIBKA, IN [New]
Cape Girardeau, MO (CGI) | DME | (Lat. 37°13′39.14″ N, long. 089°34′20.68″ W)
AMART, IL | WP | (Lat. 38°11′06.83″ N, long. 089°47′24.15″ W)
TYMME, IL | WP | (Lat. 39°05′38.35″ N, long. 089°09′43.71″ W)
DELCO, IL | WP | (Lat. 39°21′22.57″ N, long. 087°54′39.56″ W)
JIBKA, IN | WP | (Lat. 39°30′08.93″ N, long. 087°16′26.74″ W)

* * * * *

Issued in Washington, DC.
Scott M. Rosenbloom,
Acting Manager, Rules and Regulations Group.

[FR Doc. 2020-12778 Filed 6-12-20; 8:45 am]

BILLING CODE 4910-13-P